ENVIRONMENTAL PROTECTION AGENCY

[EPA-HQ-OPP-2005-0162; FRL-8403-6]

Carbofuran; Product Cancellation Order

AGENCY: Environmental Protection Agency (EPA).

ACTION: Notice.

SUMMARY: This notice announces EPA's order for the cancellation of some registrations and termination of certain uses, voluntarily requested by the registrant and accepted by the Agency, of products containing the pesticide carbofuran, pursuant to section 6(f)(1) of the Federal Insecticide, Fungicide, and Rodenticide Act (FIFRA), as amended. This cancellation order follows a December 19, 2008 (73 FR 77690; FRL-8389-4) Federal Register Notice of Receipt of Request from the carbofuran registrant to voluntarily cancel some registrations and terminate uses of certain end-use products containing the pesticide carbofuran. These are not the last carbofuran products registered for use in the United States. In the December 19, 2008 notice, EPA indicated that it would issue an order implementing the cancellations and amendments to terminate uses, unless the Agency received substantive comments within the 30-day comment period that would merit its further review of these requests, or unless the registrant withdrew their request within this period. The Agency received two anonymous comments on the notice, but neither merited further review of the requests. Further, the registrant did not withdraw their request, but submitted a letter clarifying the product registrations that they intended to cancel. Accordingly, EPA hereby issues in this notice a cancellation order granting the requested cancellations and use terminations. Any distribution, sale, or use of the carbofuran products subject to this cancellation order is permitted only in accordance with the terms of this order, including any existing stocks provisions.

DATES: The cancellations are effective March 18, 2009.

FOR FURTHER INFORMATION CONTACT: Jude Andreasen, Special Review and Reregistration Division (7508P), Office of Pesticide Programs, Environmental Protection Agency, 1200 Pennsylvania Ave., NW., Washington, DC 20460-0001; telephone number: (703) 308-9342; fax number: (703) 308-7070; e-mail address: andreasen.jude@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2005-0162 Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the cancellation and use terminations, as requested by registrants, of certain end-use carbofuran products registered under sections 3 and 24c of FIFRA. This order terminates flowable carbofuran use in or on alfalfa, cotton, ornamentals, popcorn, small grains (wheat, oats, and barley), soybeans, sugarcane, sweet corn, and tobacco. This order terminates carbofuran products registered under FIFRA section 24 Special Local Need Labels for use in or on corn (field), CRP acres, cucumbers, grapes, melons, ornamentals (container and field production), peppers (including Chiles and bell), sorghum, squash, sugar beets, sugarcane (soil applied), tobacco, and small grains (wheat, oats and barley). The order also terminates, subject to a 2-year phase-out period, the use of flowable carbofuran as a post-plant application to artichokes. The order terminates use of granular carbofuran on bananas, coffee, cucumbers, melons, and squash.These registrations are listed in sequence by registration number in Tables 1A, 1B, and 1C of this unit.

Table 1A—Carbofuran Amendments to Terminate Certain Uses
Registration No. | Product Name | Company
279-2876 | Furadan 4F | FMC Corporation
279-3310 | Furadan LFR | FMC Corporation
279-2712 | Furadan 10G | FMC Corporation
279-3023 | Furadan 15G | FMC Corporation

Table 1B—Carbofuran Product Cancellation
Registration No. | Product Name | Company
279-2922 | Furadan 5G | FMC Corporation

Table 1C—Carbofuran Special Local Need (SLN) Product Cancellations
Registration No. | Company
Registration No. | Company
AL880003 | FMC Corporation
AL940002 | FMC Corporation
AR810051 | FMC Corporation
AR810052 | FMC Corporation
AZ910001 | FMC Corporation
CA830058 | FMC Corporation
CA940005 | FMC Corporation
CA980011 | FMC Corporation
CA980012 | FMC Corporation
CO920002 | FMC Corporation
DE830004 | FMC Corporation
DE930001 | FMC Corporation
IA930001 | FMC Corporation
ID060004 | FMC Corporation
ID920002 | FMC Corporation
IL040002 | FMC Corporation
IL980003 | FMC Corporation
IN830001 | FMC Corporation
IN930001 | FMC Corporation
KS880001 | FMC Corporation
KS880002 | FMC Corporation
LA000009 | FMC Corporation
LA050001 | FMC Corporation
LA990007 | FMC Corporation
MD810008 | FMC Corporation
MI820025 | FMC Corporation
MI930001 | FMC Corporation
MO790006 | FMC Corporation
MO810024 | FMC Corporation
MO860003 | FMC Corporation
MO930002 | FMC Corporation
MS820020 | FMC Corporation
MT860007 | FMC Corporation
NC800003 | FMC Corporation
NE880003 | FMC Corporation
NE920006 | FMC Corporation
NE920009 | FMC Corporation
NE950001 | FMC Corporation
NJ980004 | FMC Corporation
NM060001 | FMC Corporation
NM060002 | FMC Corporation
NM780015 | FMC Corporation
NM980002 | FMC Corporation
OH930001 | FMC Corporation
OK810012 | FMC Corporation
OK930009 | FMC Corporation
OR060016 | FMC Corporation
OR830016 | FMC Corporation
OR830036 | FMC Corporation
OR920014 | FMC Corporation
PA840005 | FMC Corporation
PA940001 | FMC Corporation
PR850001 | FMC Corporation
PR960003 | FMC Corporation
SC790026 | FMC Corporation
SC940005 | FMC Corporation
SD900013 | FMC Corporation
TX030002 | FMC Corporation
TX060012 | FMC Corporation
TX060013 | FMC Corporation
TX810006 | FMC Corporation
TX930008 | FMC Corporation
TX930011 | FMC Corporation
VA780006 | FMC Corporation
VA790014 | FMC Corporation
VA930001 | FMC Corporation
WY030002 | FMC Corporation
WY900003 | FMC Corporation

Table 2 of this unit includes the name and address of record for the registrant of the product listed in Tables 1A, 1B, and 1C of this unit.

Table 2—Registrant of Cancelled and Amended Carbofuran Products
EPA Company No. | Company name and address
279 | FMC Corporation Agricultural Products Group 1735 Market St. Philadelphia, PA 19103

III. Summary of Public Comments Received and Agency Response to Comments

Two anonymous comments opposed the registration of any toxic chemicals. The carbofuran registrant commented that the December 19, 2008 Federal Register notice mistakenly included several Special Local Need (SLN) carbofuran registrations that the registrant did not intend to voluntarily cancel. Consequently, EPA has removed the following SLN registrations from the list of those being voluntarily cancelled: CA860037, CO920001, ID060003, ID910007, OR060017, OR910006, WA860012, and WA910006. Accordingly, the Agency does not believe that the comments submitted during the comment period merit further changes to the requested cancellations, or a denial of the requests for voluntary cancellation and use termination.

IV. Cancellation Order

Pursuant to FIFRA section 6(f), EPA hereby approves the requested cancellations and use deletions of carbofuran registrations identified in Tables 1A, 1B, and 1C of Unit II. Accordingly, the Agency orders that the carbofuran product registrations identified in Tables 1A, 1B, and 1C of Unit II. are hereby canceled and terminated. Any distribution, sale, or use of existing stocks of the products identified in Tables 1A, 1B, and 1C of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

For the products identified or referenced in Tables 1A, 1B, and 1C of Unit II. the registrant will be allowed to sell and distribute the subject products through the effective date of this cancellation order, March 18, 2009. In addition, existing stocks of carbofuran products may be sold or used until they are depleted, or until the effective date for the revocation of the associated tolerances.

Consistent with EPA's prior determinations, the Agency continues to intend to allow use on artichokes through December 31, 2010. No comments were received on whether there are sufficient stocks of product to allow for this use, and the Agency therefore concludes that no additional carbofuran production will be needed to address this use.The existing stocks provision included in a Federal Register notice published December 10, 2008, (73 FR 75105; FRL-8393-7) regarding several carbofuran products is superseded by the existing stocks provisions in this cancellation order.

List of Subjects

Environmental protection, Pesticides and pests.

Dated: February 6, 2009.
Richard P. Keigwin, Jr.,
Director, Special Review and Reregistration Division, Office of Pesticide Programs.

[FR Doc. E9-5833 Filed 3-17-09; 8:45 am]

BILLING CODE 6560-50-S